SMALL BUSINESS ADMINISTRATION

[Disaster Declaration #16448 and #16449; Mississippi Disaster Number MS-00127]

Presidential Declaration Amendment of a Major Disaster for Public Assistance Only for the State of Mississippi

AGENCY: U.S. Small Business Administration.

ACTION: Amendment 1.

SUMMARY: This is an amendment of the Presidential declaration of a major disaster for Public Assistance Only for the State of Mississippi (FEMA-4536-DR), dated 05/08/2020.

Incident: Severe Storms, Tornadoes, Straight-line Winds, and Flooding.

Incident Period: 04/12/2020.

DATES: Issued on 05/29/2020.

Physical Loan Application Deadline Date: 07/07/2020.

Economic Injury (EIDL) Loan Application Deadline Date: 02/08/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Mississippi, dated 05/08/2020, is hereby amended to include the following areas as adversely affected by the disaster.

Primary Counties: Bolivar, Calhoun, Carroll, Chickasaw, Choctaw, Clarke, Clay, Coahoma, Grenada, Holmes, Jasper, Lafayette, Lawrence, Leake, Montgomery, Noxubee, Panola, Quitman, Smith, Sunflower, Tallahatchie, Tate, Tunica, Walthall, Webster, Yalobusha.

All other information in the original declaration remains unchanged.

(Catalog of Federal Domestic Assistance Number 59008)

Cynthia Pitts,
Acting Associate Administrator for Disaster Assistance.

[FR Doc. 2020-12193 Filed 6-4-20; 8:45 am]

BILLING CODE 8026-03-P